U.S. COMMISSION ON OCEAN POLICY

Public Meeting

AGENCY: U.S. Commission on Ocean Policy.

ACTION: Notice.

SUMMARY: The U.S. Commission on Ocean Policy will hold its third regional meeting, the Commission's fifth public meeting, to hear and discuss coastal and ocean issues of concern to the Gulf of Mexico region, covering the coastal area from Alabama to Texas.

DATES: Public meetings will be held Thursday, March 7, 2002 from 8:30 a.m. to 5:30 p.m. and Friday, March 8, 2002 from 8:30 a.m. to 3:30 p.m.

ADDRESSES: The meeting location is the First Floor Auditorium, Port of New Orleans Headquarters Building, 1350 Port of New Orleans Place, New Orleans, LA 70160.

FOR FURTHER INFORMATION CONTACT: Terry Schaff, U.S. Commission on Ocean Policy, 1120 20th Street, NW., Washington, DC, 20036, 202-418-3442, schaff@oceancommission.gov.

SUPPLEMENTARY INFORMATION: This meeting is being held pursuant to requirements under the Oceans Act of 2000 (Public Law 106-256, Section 3(e)(1)(E)). The agenda will include presentations by invited speakers representing local and regional government agencies and non-governmental organizations, comments from the public and any required administrative discussions and executive sessions. Invited speakers and members of the public are requested to submit their statements for the record electronically by February 27, 2002 to the meeting Point of Contact. Additional meeting information, including a draft agenda, will be posted as available on the Commission's web site at http://www.oceancommission.gov.

Dated: February 5, 2002.
James D. Watkins,
Chairman, U.S. Commission on Ocean Policy.

[FR Doc. 02-3159 Filed 2-8-02; 8:45 am]

BILLING CODE 6820-WM-P